SECURITIES AND EXCHANGE COMMISSION

[SEC File No. 270-21, OMB Control No. 3235-0025]

Proposed Collection; Comment Request; Extension: Rule 30e-1

Upon Written Request, Copies Available From: Securities and Exchange Commission, Office of FOIA Services, 100 F Street NE, Washington, DC 20549-2736

Notice is hereby given that, pursuant to the Paperwork Reduction Act of 1995 (44 U.S.C. 3501 et seq.) (“Paperwork Reduction Act”), the Securities and Exchange Commission (the “Commission”) is soliciting comments on the collection of information summarized below. The Commission plans to submit this existing collection of information to the Office of Management and Budget (“OMB”) for extension and approval.

Rule 30e-1 (17 CFR 270.30e-1) under the Investment Company Act of 1940 (15 U.S.C. 80a-1 et seq.) (“Investment Company Act”) generally requires a registered investment company (“fund”) to transmit to its shareholders, at least semi-annually, reports containing the information that is required to be included in such reports by the fund's registration statement form under the Investment Company Act. The purpose of the collection of information required by rule 30e-1 is to provide fund shareholders with current information about the operation of their funds in accordance with Section 30 of the Investment Company Act.

Approximately 11,840 funds, respond to rule 30e-1 annually.¹ We estimate that it takes approximately 147 hours to comply with the collection of information associated with rule 30e-1 per fund. This time is spent, for example, preparing, reviewing, and certifying the reports, as well as the website availability requirements and delivery of shareholder reports upon request requirements. Accordingly, we calculate the total estimated annual internal burden of responding to rule 30e-1 to be approximately 1,738,428 hours (146.8 hours × 11,840 funds). In addition to the burden hours, we estimate that the total cost burden of compliance with the information collection requirements of rule 30e-1 is approximately $13,105 per fund. This includes, for example, the cost of goods and services purchased to prepare, comply with website availability requirements, and deliver reports upon request under the amendments to rule 30e-1, such as for the services of independent auditors and outside counsel. Accordingly, we calculate the total external cost burden associated with rule 30e-1 to be approximately $155,164,791.

¹ Includes all open-end funds, including ETFs, registered on Form N-1A.

Estimates of average burden hours are made solely for the purposes of the Paperwork Reduction Act and are not derived from a comprehensive or even representative survey or study of the costs of Commission rules and forms. The collection of information under rule 30e-1 is mandatory. The information provided under rule 30e-1 will not be kept confidential. An agency may not conduct or sponsor, and a person is not required to respond to, a collection of information unless it displays a currently valid OMB control number.

Written comments are invited on: (a) whether the proposed collection of information is necessary for the proper performance of the functions of the Commission, including whether the information shall have practical utility; (b) the accuracy of the Commission's estimate of the burden of the collection of information; (c) ways to enhance the quality, utility, and clarity of the information collected; and (d) ways to minimize the burden of the collection of information on respondents, including through the use of automated collection techniques or other forms of information technology. Consideration will be given to comments and suggestions submitted by July 24, 2023.

An agency may not conduct or sponsor, and a person is not required to respond to, a collection of information under the PRA unless it displays a currently valid OMB control number.

Please direct your written comments to: David Bottom, Director/Chief Information Officer, Securities and Exchange Commission, c/o John Pezzullo, 100 F Street NE, Washington, DC 20549 or send an email to: PRA_Mailbox@sec.gov.

Dated: May 22, 2023.
Sherry R. Haywood,
Assistant Secretary.

[FR Doc. 2023-11200 Filed 5-24-23; 8:45 am]

BILLING CODE 8011-01-P